DEPARTMENT OF ENERGY

Federal Energy Regulatory Commission

Combined Notice of Filings

Take notice that the Commission has received the following Natural Gas Pipeline Rate and Refund Report filings:

Docket Number: PR20-17-001.

Applicants: Bay Gas Storage Company, LLC.

Description: Tariff filing per 284.123(b),(e)/: Bay Gas Storage Company Supplemental Revised SOC to be effective 11/21/2019.

Filed Date: 1/16/2020.

Accession Number: 202001165088.

Comments/Protests Due: 5 p.m. ET 2/6/2020.

Docket Number: PR20-23-000.

Applicants: Southcross Alabama Pipeline LLC.

Description: Tariff filing per 284.123(e)/.224: Termination of Statement of Operating Conditions to be effective 1/15/2020.

Filed Date: 1/15/2020.

Accession Number: 202001155137.

Comments/Protests Due: 5 p.m. ET 2/5/2020.

Docket Number: PR20-24-000.

Applicants: Southcross Mississippi Pipeline, L.P.

Description: Tariff filing per 284.123(e)/.224: Termination of Statement of Operating Conditions to be effective 1/15/2020.

Filed Date: 1/15/2020.

Accession Number: 202001155138.

Comments/Protests Due: 5 p.m. ET 2/5/2020.

Docket Number: PR20-25-000.

Applicants: Public Service Company of Colorado.

Description: Tariff filing per 284.123(b),(e)+(g): Statement of Rates—1.1.2020 to be effective 1/1/2020.

Filed Date: 1/17/2020.

Accession Number: 202001175130.

Comments Due: 5 p.m. ET 2/7/2020.

284.123(g) Protests Due: 5 p.m. ET 3/17/2020.

Docket Number: PR18-82-000.

Applicants: Banquete Hub LLC.

Description: Informational Report of Banquete Hub LLC regarding affiliate Gulf Coast East Express Pipeline LLC.

Filed Date: 1/8/2020.

Accession Number: 20200109-5051.

Comments Due: 5 p.m. ET 2/7/2020.

Docket Numbers: RP20-447-000.

Applicants: Southern LNG Company, L.L.C.

Description: § 4(d) Rate Filing: Dredging Surcharge Cost Adjustment—2020 to be effective 3/1/2020.

Filed Date: 1/23/20.

Accession Number: 20200123-5019.

Comments Due: 5 p.m. ET 2/4/20.

Docket Numbers: RP20-448-000

Applicants: Nautilus Pipeline Company, L.L.C.

Description: § 4(d) Rate Filing: Nautilus—FT-2 Modification and nonconforming W&T, Castex to be effective 2/22/2020.

Filed Date: 1/23/20.

Accession Number: 20200123-5074.

Comments Due: 5 p.m. ET 2/4/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 27, 2020.
Nathaniel J. Davis, Sr.,
Deputy Secretary.

[FR Doc. 2020-01867 Filed 1-30-20; 8:45 am]

BILLING CODE 6717-01-P